DEPARTMENT OF THE INTERIOR

Bureau of Indian Affairs

Loan Guaranty, Insurance and Interest Subsidy Program

AGENCY: Bureau of Indian Affairs, Interior.

ACTION: Notice of Submission of Information Collection to the Office of Management and Budget.

SUMMARY: In compliance with the Paperwork Reduction Act of 1995, the Bureau of Indian Affairs (BIA) is submitting the information collection, titled 25 CFR 103, Loan Guaranty, Insurance, and Interest Subsidy Program, OMB Control Number 1076-0020 for renewal.

DATES: Submit comments on or before March 30, 2007.

ADDRESSES: You may submit comments on the information collection to the Desk Officer for Department of the Interior, by facsimile at (202) 395-6566 or you may send an e-mail to: OIRA_DOCKET@ omb.eop.gov.

Please send a copy of your comments to David Johnson, Acting Director, Division of Capital Investment, Office of Indian Energy and Economic Development, Department of the Interior, 1951 Constitution Avenue, NW., Mail Stop 20-SIB, Washington, DC 20240.

FOR FURTHER INFORMATION CONTACT: You may request further information or obtain copies of the information collection request submission from Woodrow B. Sneed, Financial Analyst, Division of Capital Investment, 1951 Constitution Avenue, NW., Mail Stop 20-SIB, Washington, DC 20240 or by telefacsimile at (202) 208-6512.

SUPPLEMENTARY INFORMATION: The purpose of the Loan Guaranty, Insurance, and Interest Subsidy Program, 25 U.S.C. 1481 et seq. and 25 U.S.C. 1511 et seq., is to encourage private lending to individual Indians and organizations of Indians, by providing lenders with loan guaranties or loan insurance to reduce their potential risk. Lenders, borrowers, and the loan purpose all must qualify under Program terms. In addition, the Secretary of the Interior must be satisfied that there is a reasonable prospect that the loan will be repaid. BIA collects information under the regulations, 25 CFR 103, to assure compliance with Program requirements. BIA forms concerned with this regulation include: 5-4753 Loan Guaranty Agreement, 5-4754 Loan Insurance Agreement, 5-4754a Notice of Insured Loan, 5-4755 Request to BIA for Loan Guaranty, Loan Insurance, and/or Interest Subsidy, 5-4749 BIA Interest Subsidy Report, 5-4759 Assignment of Loan Documents and Related Rights, 5-4760a Notice of Default, and 5-4760b Claim for Loss. A request for comments on this information collection request appeared in the Federal Register on November 24, 2006 (71 FR 67895). No comments were received.

Request for Comments

The Office of Indian Energy and Economic Development requests you to send your comments on this collection to the two locations listed in the ADDRESSES section. Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it displays a valid OMB Control Number.

Once this notice is published in the Federal Register, OMB has up to 60 days to make a decision on approving this collection but may decide after 30 days; therefore, your comments will receive maximum attention if sent within the 30 day period.

OMB Approval Number: 1076-0020.

Title: 25 CFR 103, Loan Guaranty, Insurance, and Interest Subsidy Program.

Brief Description of Collection: The Loan Guaranty, Insurance, and Interest Subsidy Program (Program) was established by the Act of April 12, 1974, as amended, 88 Stat. 79, 25 U.S.C. 1481 et seq. and 25 U.S.C. 1511 et seq. The Program has existed since 1974 and the regulations implementing it have existed since 1975, with significant revision in 2001. It is necessary to collect information from users of this program in order to determine eligibility and credit worthiness of Indian applicants for loans. Submission of this information is mandatory for respondent to receive or maintain a benefit.

Type of Review: Renewal.

Respondents: Commercial banks.

Number of Respondents: 612.

Number of Responses: 1,527.

Estimated Time per Response: 2 hours.

Frequency of Response: As needed.

Total Annual Burden to Respondents: 3,054.

Dated: February 23, 2007.
Debbie L. Clark,
Deputy Assistant Secretary—Indian Affairs (Management).

[FR Doc. 07-920 Filed 2-26-07; 12:05 pm]

BILLING CODE 4310-XN-P